DEPARTMENT OF TRANSPORTATION

Federal Railroad Administration

Notice of Informational Filing

In accordance with § 236.913 of Title 49 of the Code of Federal Regulations (CFR), notice is hereby given that the Federal Railroad Administration (FRA) has received an informational filing from the Ohio Central Railroad System (OCRS) to permit field testing of the railroad's processor-based train control system. The informational filing is described below, including the requisite docket number where the informational filing and any related information may be found. The document is also available for public inspection; however, FRA is not accepting public comments.

Ohio Central Railroad System

[Docket Number FRA-2006-26177]

OCRS has submitted an informational filing to FRA to permit field testing of the railroad's processor-based train control system identified as OCRS Positive Train Control (OCRS PTC). The informational filing addresses the requirements under 49 CFR 236.913(j)(1).

Specifically, the informational filing contains a description of the OCRS PTC product and an operational concepts document, pursuant to 49 CFR 236.913(j)(1). The OCRS PTC system is designed to prevent authority limit and over-speed violations in non-signaled Track Warrant Control (TWC) territory, and to prevent equipped trains from entering the limits, without authorization, of on-track authority granted to employees.

OCRS desires to commence field testing in the fourth quarter of 2007, or as soon as practicable thereafter, contingent upon FRA's acceptance and approval of their informational filing.

Interested parties are invited to review the informational filing and associated documents at the DOT Docket Management facility during regular business hours (9 a.m.—5 p.m.) at 1200 New Jersey Avenue, SE., Room W12-140, Washington, DC 20590. All documents in the public docket are also available for inspection and copying on the internet at http://www.regulations.gov.

Anyone is able to search the electronic form of any written communications received into any of our dockets by name of the individual submitting the document (or signing the document, if submitted on behalf of an association, business, labor union, etc.). You may review the DOT(s complete Privacy Act Statement in the Federal Register published on April 11, 2000 (Volume 65, Number 70; Pages 19477-78).

Issued in Washington, DC, on December 19, 2007.
Grady C. Cothen, Jr.,
Deputy Associate Administrator for Safety Standards and Program Development.

[FR Doc. E7-25142 Filed 12-27-07; 8:45 am]

BILLING CODE 4910-06-P